DEPARTMENT OF THE INTERIOR

Bureau of Land Management

[18X.LLAK910000.L13100000.DB0000.LXSINSSI0000]

2018 Call for Nominations, North Slope Science Initiative, Science Technical Advisory Panel, Alaska

AGENCY: North Slope Science Initiative, Bureau of Land Management, Interior.

ACTION: Notice.

SUMMARY: The purpose of this notice is to request public nominations to serve on the North Slope Science Initiative's (NSSI) 15-member Science Technical Advisory Panel (Panel). The Panel advises the NSSI Oversight Group on technical issues such as identifying and prioritizing inventory, monitoring, and research needs across the North Slope of Alaska and the adjacent marine environment.

DATES: All public nominations and applications for membership on the panel must be received no later than May 29, 2018.

FOR FURTHER INFORMATION CONTACT: Ms. Lisa Gleason, Office of Communications, North Slope Science Initiative, Bureau of Land Management, 222 West Seventh Avenue, #13, Anchorage, Alaska 99513, 907-271-3335, email blm_ak_nssi_communications@blm.gov. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: Section 348 of the Energy Policy Act of 2005, Public Law 109-58, created the NSSI, its Oversight Group, and 15-member Science Technical Advisory Panel to coordinate inventories, monitoring, and research for a better understanding of terrestrial, aquatic, and marine ecosystems of the North Slope of Alaska. The NSSI works to minimize duplication of monitoring and research efforts, share financial resources and expertise, identify and prioritize information needs, and ensure through appropriate peer review that the science conducted by participating agencies and organizations is of the highest technical quality.

As an advisory body, the Science Technical Advisory Panel represents diverse professions and interests, including the oil and gas industry, subsistence users, Alaska Native entities, conservation organizations, and academia. A diverse membership helps maintain and improve public and agency access to accumulated and ongoing research as well as contemporary and traditional local knowledge.

Duties of the Panel are solely advisory to the Oversight Group. Panel members serve for three-year terms, appointed by the Secretary of the Interior.

To Nominate or Apply

Nomination forms and instructions are available from the NSSI website (http://www.northslopescience.org) and the Office of Communications, North Slope Science Initiative (see FOR FURTHER INFORMATION CONTACT section). Completed nomination forms/applications and a minimum of one letter of reference should describe the nominee's experience and qualifications to serve on the Science Technical Advisory Panel. Science Technical Advisory Panel members receive no monetary compensation, but will be reimbursed for necessary travel, lodging, and per diem expenses for participating in announced meetings under Federal Travel Regulations and Federal Advisory Committee Act guidelines.

The Oversight Group includes the Alaska Regional or State Directors of the U.S. Fish and Wildlife Service, the National Park Service, the Bureau of Ocean Energy Management, the Bureau of Safety and Environmental Enforcement, the National Marine Fisheries Service, and the Bureau of Land Management; the commissioners of the Alaska Departments of Natural Resources and Fish and Game; the Mayor of the North Slope Borough; and, the President of the Arctic Slope Regional Corporation. Advisory members of the Oversight Group include the Regional Executive of the U.S. Geological Survey; the Deputy Director, U.S. Arctic Research Commission; the Alaska Regional Director, National Weather Service; and the Regional Coordinator for the National Oceanographic and Atmospheric Administration. The Panel's charter may be found here https://northslopescience.org/files/STAP/160620_STAP_Charter.pdf.

Public Availability of Nomination/Application Information

Before including your address, phone number, email address, or other personal identifying information in your nomination/application package, you should be aware that your entire nomination/application package—including your personal identifying information—may be made publicly available at any time. While you can ask us to withhold your personal identifying information from public review, we cannot guarantee that we will be able to do so.

Authority: 43 CFR 1784.4-1; 5 U.S.C. Appendix 2

Ted Murphy,
Associate State Director, Alaska.

[FR Doc. 2018-07625 Filed 4-11-18; 8:45 am]

BILLING CODE 4310-JA-P